DEPARTMENT OF STATE

[Public Notice: 7876]

Application for Presidential Permit To Construct, Operate and Maintain Pipeline Facilities on the Border of the United States

AGENCY: Department of State.

ACTION: Notice of Receipt of Application for a Presidential Permit to Construct, Operate and Maintain Pipeline Facilities on the Border of the United States.

SUMMARY: Notice is hereby given that the Department of State (DOS) has received an application to construct, operate and maintain pipeline facilities on the border of the United States from TransCanada Keystone Pipeline, L.P. TransCanada Keystone Pipeline, L.P. has applied for a Presidential Permit to construct and operate border crossing facilities at the U.S./Canadian border in Phillips County, near Morgan, Montana, in connection with a proposed pipeline that is designed to transport crude oil produced in the Western Canadian Sedimentary Basin (WCSB) and from other sources to a terminus in Steele City, Nebraska where it is designed to link with an existing pipeline continuing to oil storage facilities in Cushing, Oklahoma.

Under E.O. 13337, as amended, the Secretary of State is designated and empowered to receive all applications for Presidential permits for the construction, connection, operation, or maintenance at the borders of the United States, of facilities for the exportation or importation of petroleum, petroleum products, coal, or other fuels to or from a foreign country. As a part of the review of the application for Presidential Permits, the Secretary of State must determine whether or not the project would be in the national interest. The determination of national interest involves consideration of many factors, including energy security, health, environmental, cultural, and economic concerns. Before making a decision on the proposed Project, DOS will consult with the eight federal agencies identified in Executive Order 13337: The Departments of Energy, Defense, Transportation, Homeland Security, Justice, Interior, and Commerce, and the Environmental Protection Agency.

The Department of State also intends to evaluate the potential environmental effects of the proposed project consistent with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1). In addition, the Department of State intends to conduct consultations on possible impacts to traditional or cultural properties with interested Native American tribes consistent with Section 106 of the National Historical Preservation Act (NHPA).

FOR FURTHER INFORMATION CONTACT: The DOS Project Web site (www.keystonepipeline-xl.state.gov) provides Project-related information for viewing and downloading.

Issued in Washington, DC, on May 4, 2012.
Dated: May 4, 2012.
Cynthia H. Akuetteh,
Acting Director, Office of Asia and Western Hemisphere, Bureau of Energy Resources, U.S. Department of State.
Dated: May 4, 2012.
George N. Sibley,
Director, Office of Environmental Policy, Bureau of Oceans and International Environmental and Scientific Affairs, U.S. Department of State.

[FR Doc. 2012-11298 Filed 5-9-12; 8:45 am]

BILLING CODE 4710-09-P